DEPARTMENT OF LABOR

Employment and Training Administration

[TA-W-74,327]

Anthem Blue Cross Blue Shield, Claim Management Services, Inc. Operations, a Division of Wellpoint, Inc., Green Bay, WI; Notice of Negative Determination Regarding Application for Reconsideration

By application dated August 26, 2010, a petitioner requested administrative reconsideration of the Department of Labor's negative determination regarding eligibility to apply for Trade Adjustment Assistance (TAA), applicable to workers and former workers of Anthem Blue Cross Blue Shield, Claim Management Services, Inc. Operations, a Division of Wellpoint, Inc., Green Bay, Wisconsin (the subject firm). The Notice of determination was signed on August 16, 2010, and was published in the Federal Register on September 3, 2010 (75 FR 54187). The workers supply claims processing services and customer service functions, and are not separately identifiable by service.

Pursuant to 29 CFR 90.18(c) reconsideration may be granted under the following circumstances:

(1) If it appears on the basis of facts not previously considered that the determination complained of was erroneous;

(2) If it appears that the determination complained of was based on a mistake in the determination of facts not previously considered; or

(3) If in the opinion of the Certifying Officer, a mis-interpretation of facts or of the law justified reconsideration of the decision.

The negative determination of the TAA petition filed on behalf of workers at the subject firm was based on the findings that there was neither a shift in the supply of claims processing and customer service functions to a foreign country, nor imports of claims processing and customer service functions during the relevant period, and that the subject firm is not a supplier or downstream producer to a firm that employed a worker group eligible to apply for TAA.

In the request for reconsideration, the petitioner stated that the workers of the subject firm should be eligible for TAA based on a shift to a foreign country. The petitioner also noted that workers at other locations of Anthem Blue Cross Blue Shield are eligible to apply for TAA, and urged the Department to “take a look at the entire company and review this again and you will find that they have outsourced to [a foreign country].”

The Department has confirmed that workers at several other locations of Anthem Blue Cross Blue Shield are eligible to apply for TAA on the basis of a shift to a foreign country; however, the workers at the subject facility supply services that are distinctly different and separate from those supplied by workers at the other Anthem Blue Cross Blue Shield locations, and the work that was performed by Anthem Blue Cross Blue Shield workers who are eligible to apply for TAA based on a shift abroad had never been performed at the subject facility.

The petitioner did not supply facts not previously considered; nor provide additional documentation indicating that there was either (1) a mistake in the determination of facts not previously considered or (2) a misinterpretation of facts or of the law justifying reconsideration of the initial determination.

After careful review of the request for reconsideration, the Department determines that 29 CFR 90.18(c) has not been met.

Conclusion

After review of the application and investigative findings, I conclude that there has been no error or misinterpretation of the law or of the facts which would justify reconsideration of the Department of Labor's prior decision. Accordingly, the application is denied.

Signed in Washington, DC, this 7th day of October 2010.
Michael W. Jaffe,
Certifying Officer, Office of Trade Adjustment Assistance.

[FR Doc. 2010-26774 Filed 10-22-10; 8:45 am]

BILLING CODE 4510-FN-P